DEPARTMENT OF ENERGY

Federal Energy Regulatory Commission

Combined Notice of Filings #2

Take notice that the Commission received the following exempt wholesale generator filings:

Docket Numbers: EG20-21-000.

Applicants: Emmons-Logan Wind Interconnection, LLC.

Description: Notice of Self-Certification of Exempt Wholesale Generator Status of Emmons-Logan Wind .Interconnection, LLC.

Filed Date: 10/31/19.

Accession Number: 20191031-5193.

Comments Due: 5 p.m. ET 11/21/19.

Take notice that the Commission received the following electric rate filings:

Docket Numbers: ER10-3297-014.

Applicants: Powerex Corp.

Description: Notice of Non-Material Change in Status of Powerex Corp.

Filed Date: 10/31/19.

Accession Number: 20191031-5102.

Comments Due: 5 p.m. ET 11/21/19.

Docket Numbers: ER19-2909-001.

Applicants: Basin Electric Power Cooperative.

Description: Tariff Amendment: Amendment to Submission of Initial Rate Schedule A to be effective 12/31/9998.

Filed Date: 10/31/19.

Accession Number: 20191031-5216.

Comments Due: 5 p.m. ET 11/21/19.

Docket Numbers: ER20-250-000.

Applicants: PJM Interconnection, L.L.C.

Description: § 205(d) Rate Filing: 3rd Quarter 2019 Revisions to OA, Schedule 12 and RAA, Schedule 17 to be effective 9/30/2019.

Filed Date: 10/31/19.

Accession Number: 20191031-5047.

Comments Due: 5 p.m. ET 11/21/19.

Docket Numbers: ER20-251-000.

Applicants: Public Service Company of Colorado.

Description: § 205(d) Rate Filing: Att O-PSCo TBL 25—Deprec and Amort Rates Filing to be effective 1/1/2020.

Filed Date: 10/31/19.

Accession Number: 20191031-5052.

Comments Due: 5 p.m. ET 11/21/19.

Docket Numbers: ER20-252-000.

Applicants: Otter Tail Power Company.

Description: § 205(d) Rate Filing: Operating Services Agreement with Alexandria Light & Power Utilities to be effective 1/1/2020.

Filed Date: 10/31/19.

Accession Number: 20191031-5073.

Comments Due: 5 p.m. ET 11/21/19.

Docket Numbers: ER20-253-000.

Applicants: Otter Tail Power Company.

Description: § 205(d) Rate Filing: Operating Services Agreement with Detroit Lakes Public Utilities to be effective 1/1/2020.

Filed Date: 10/31/19.

Accession Number: 20191031-5074.

Comments Due: 5 p.m. ET 11/21/19.

Docket Numbers: ER20-254-000.

Applicants: Wabash Valley Power Association, Inc., PJM Interconnection, L.L.C.

Description: § 205(d) Rate Filing: Revisions to OATT, Att. L & CTOA, Att. A reflecting Wabash as a new TO (OATT) to be effective 12/31/2019.

Filed Date: 10/31/19.

Accession Number: 20191031-5082.

Comments Due: 5 p.m. ET 11/21/19.

Docket Numbers: ER20-255-000.

Applicants: AEP Texas Inc.

Description: Informational Filing and Notice of Cancellation of ERCOT Transmission Service Agreement (No. 451) of AEP Texas Inc.

Filed Date: 10/31/19.

Accession Number: 20191031-5088.

Comments Due: 5 p.m. ET 11/21/19.

Docket Numbers: ER20-256-000.

Applicants: Wabash Valley Power Association, Inc., PJM Interconnection, L.L.C.

Description: § 205(d) Rate Filing: Revisions to CTOA, Att. A & OATT, Att. L reflecting Wabash a new TO (CTOA) to be effective 12/31/2019.

Filed Date: 10/31/19

Accession Number: 20191031-5093.

Comments Due: 5 p.m. ET 11/21/19.

Docket Numbers: ER20-257-000.

Applicants: Southwestern Electric Power Company.

Description: Informational Filing and Notice of Cancellation of Four Operations Agreements of Southwestern Electric Power Company.

Filed Date: 10/31/19.

Accession Number: 20191031-5097.

Comments Due: 5 p.m. ET 11/21/19.

Docket Numbers: ER20-258-000.

Applicants: Appalachian Power Company.

Description: § 205(d) Rate Filing: APCo-Seven Islands Small GIA to be effective 12/30/2019.

Filed Date: 10/31/19.

Accession Number: 20191031-5111.

Comments Due: 5 p.m. ET 11/21/19

Docket Numbers: ER20-260-000.

Applicants: California Power Exchange Corporation.

Description: § 205(d) Rate Filing: Rate Filing for Rate Period 36 to be effective 1/1/2020.

Filed Date: 10/31/19.

Accession Number: 20191031-5129.

Comments Due: 5 p.m. ET 11/21/19.

Docket Numbers: ER20-261-000.

Applicants: Public Service Company of Colorado.

Description: § 205(d) Rate Filing: WP_Depreciation Rates to be effective 1/1/2020.

Filed Date: 10/31/19.

Accession Number: 20191031-5165.

Comments Due: 5 p.m. ET 11/21/19.

Docket Numbers: ER20-262-000.

Applicants: PJM Interconnection, L.L.C.

Description: § 205(d) Rate Filing: Revisions to OATT Sch. 12-Appx A: Oct 2019 RTEP, 30-day Comments due to be effective 1/29/2020.

Filed Date: 10/31/19.

Accession Number: 20191031-5167.

Comments Due: 5 p.m. ET 11/21/19.

Docket Numbers: ER20-263-000.

Applicants: Doswell Limited Partnership.

Description: § 205(d) Rate Filing: Reactive Power Tariff Filing to be effective 12/1/2019.

Filed Date: 10/31/19.

Accession Number: 20191031-5170.

Comments Due: 5 p.m. ET 11/21/19.

Docket Numbers: ER20-264-000.

Applicants: New England Power Pool Participants Committee.

Description: § 205(d) Rate Filing: Nov 2019 Membership Filing to be effective 10/1/2019.

Filed Date: 10/31/19.

Accession Number: 20191031-5181.

Comments Due: 5 p.m. ET 11/21/19.

Docket Numbers: ER20-265-000.

Applicants: PacifiCorp.

Description: § 205(d) Rate Filing: BPA AC Intertie Agreement 16th Revised to be effective 12/31/2019.

Filed Date: 10/31/19.

Accession Number: 20191031-5195.

Comments Due: 5 p.m. ET 11/21/19.

Docket Numbers: ER20-266-000.

Applicants: Pacific Gas and Electric Company.

Description: § 205(d) Rate Filing: Reserve Capacity Revisions to CCSF WDT SA (SA 275) to be effective 12/30/2019.

Filed Date: 10/31/19.

Accession Number: 20191031-5213.

Comments Due: 5 p.m. ET 11/21/19.

Docket Numbers: ER20-267-000.

Applicants: Gulf Power Company.

Description: § 205(d) Rate Filing: Cost-Based Rate Tariff to be effective 1/1/2020.

Filed Date: 10/31/19.

Accession Number: 20191031-5218.

Comments Due: 5 p.m. ET 11/21/19.

Docket Numbers: ER20-268-000.

Applicants: Southern California Edison Company.

Description: § 205(d) Rate Filing: SCE 2020 TRBAA Update to be effective 6/1/2019.

Filed Date: 10/31/19.

Accession Number: 20191031-5220.

Comments Due: 5 p.m. ET 11/21/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 31, 2019.
Nathaniel J. Davis, Sr.,
Deputy Secretary.

[FR Doc. 2019-24202 Filed 11-5-19; 8:45 am]

BILLING CODE 6717-01-P